INTERNATIONAL TRADE COMMISSION

[Investigation No. 337-TA-1002]

Certain Carbon and Alloy Steel Products; Commission Determination With Respect to the Procedure for the April 20, 2017, Oral Argument

AGENCY: U.S. International Trade Commission.

ACTION: Notice.

SUMMARY: Notice is hereby given that the U.S. International Trade Commission has determined to conduct the April 20, 2017, oral argument, see 82 FR 13133-34 (Mar. 9, 2017), in accordance with the procedure set forth herein.

FOR FURTHER INFORMATION CONTACT: Houda Morad, Office of the General Counsel, U.S. International Trade Commission, 500 E Street SW., Washington, DC 20436, telephone (202) 708-4716. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1002 on June 2, 2016, based on a complaint filed by Complainant United States Steel Corporation of Pittsburgh, Pennsylvania (“U.S. Steel”), alleging a violation of Section 337 of the Tariff Act of 1930, as amended, 19 U.S.C. 1337. See 81 FR 35381 (June 2, 2016). The complaint alleges violations of Section 337 based upon the importation into the United States, or in the sale of certain carbon and alloy steel products by reason of: (1) A conspiracy to fix prices and control output and export volumes, the threat or effect of which is to restrain or monopolize trade and commerce in the United States; (2) misappropriation and use of trade secrets, the threat or effect of which is to destroy or substantially injure an industry in the United States; and (3) false designation of origin or manufacturer, the threat or effect of which is to destroy or substantially injure an industry in the United States. Id. The notice of investigation identified forty (40) respondents that are Chinese steel manufacturers or distributors, as well as some of their Hong Kong and United States affiliates. Id. In addition to the private parties, the Commission assigned an Investigative Attorney from the Commission's Office of Unfair Import Investigations (OUII), who functions as an independent litigant or party in the investigation. Id.

On August 26, 2016, Respondents filed a motion to terminate U.S. Steel's antitrust claim under 19 CFR 210.21. On September 6, 2016, U.S. Steel filed a response in opposition to Respondents' motion to terminate. On September 9, 2016, the Commission Investigative Attorney (“IA”) filed a response in opposition to Respondents' motion to terminate. On November 14, 2016, the ALJ issued the subject ID, granting Respondents' motion to terminate Complainant's antitrust claim under 19 CFR 210.21 and, in the alternative, under 19 CFR 210.18. On November 23, 2016, Complainant and the IA filed petitions for review of the ID. Complainant also requested oral argument before the Commission. On December 1, 2016, Respondents filed a response to the petitions for review. Also on December 1, 2016, Complainant filed a response to the IA's petition for review.

On December 19, 2016, the Commission issued a Notice determining to review the ID (Order No. 38). See 81 FR 94416-17 (Dec. 23, 2016). In the Notice, the Commission requested written submissions from “[t]he parties to the investigation, including the Office of Unfair Import Investigations, and interested government agencies” in connection with its review and set a date of March 14, 2017, for possible oral argument. Id.

On February 24, 2017, the Commission issued a notice indicating that, pursuant to Commission Rule 210.45 (19 CFR 210.45), an oral argument would be held on March 14, 2017, in connection with the Commission's review of Order No. 38.

On March 3, 2017, the Commission issued a notice seeking further written submissions from the public in response to the December 19, 2016, Notice and rescheduling the date for the oral argument to April 20, 2017. See 82 FR 13133-34 (Mar. 9, 2017).

The Commission has determined to conduct the April 20, 2017, oral argument as follows:

1. The oral argument will include up to four (4) distinct panels, one for Complainant U.S. Steel, one for Respondents, one for OUII, and one, if applicable, for interested government agencies.

2. At the beginning of the oral argument, each panel will be allowed to give a 10-minute opening statement in the following order: (1) Complainant; (2) Respondents; (3) OUII; and (4) government agencies, if any.

3. Upon completion of all of the opening statements, an initial Questions & Answers (Q&A) session with each panel will follow, whereby each panel, in the same order as outlined in paragraph (2) above, may receive questions from the Commissioners. Each Commissioner will be allocated 10 minutes per round of questions, with potential additional rounds for any given panel, if one or more Commissioners have further questions.

4. After the initial Q&A session when all the panels are completed, there will be the opportunity for a rebuttal Q&A session, where Commissioners will get the opportunity to ask rebuttal questions of the oral argument participants. Each Commissioner will be allocated 5 minutes per round of questions, with potential additional rounds if one or more Commissioners have further questions.

5. At the end of the Q&A sessions, each panel will be allowed to give a 5-minute closing statement, in the same order as outlined in paragraph (2) above, without opportunity for rebuttal or questions from the Commissioners.

COMMISSION ORAL ARGUMENT: The Commission will hold the public oral argument in the Commission's Main Hearing Room (Room 101), 500 E Street SW., Washington DC 20436, beginning at 9:30 a.m. While any member of the public may attend the oral argument, only counsel for the parties to the investigation, including OUII, and representatives of interested government agencies may participate and/or argue at the oral argument.

This is a public proceeding; confidential business information (“CBI”) shall not be discussed. A party, however, can draw the Commission's attention to CBI, if necessary, by pointing to where in the record the information can be found.

The oral argument will be limited in scope to the issues identified in the ID (Order No. 38); the Commission's December 19, 2016, Notice; the Commission's March 3, 2017, Notice; and any related petition, written submissions, and responses thereto.

NOTICE OF APPEARANCE: Counsel for the parties to the investigation or any representatives of interested government agencies who wish to participate in the oral argument must file a written request to appear at the Commission oral argument by April 6, 2017, and must provide their email addresses as part of their contact information.

The authority for the Commission's determination is contained in section 337 of the Tariff Act of 1930, as amended (19 U.S.C. 1337), and in part 210 of the Commission's Rules of Practice and Procedure (19 CFR part 210).

By order of the Commission.
Issued: March 30, 2017.
Lisa R. Barton,
Secretary to the Commission.

[FR Doc. 2017-06637 Filed 4-3-17; 8:45 am]

BILLING CODE 7020-02-P